ENVIRONMENTAL PROTECTION AGENCY

[FRL-9924-58-Region-6]

Notice of Availability of Preliminary Designation of Certain Stormwater Discharges in the State of New Mexico Under the National Pollutant Discharge Elimination System of the Clean Water Act

AGENCY: Environmental Protection Agency (EPA).

ACTION: Notice; request for public comment.

SUMMARY: The Regional Administrator of the Environmental Protection Agency Region 6 (EPA) is providing notice of the availability of a preliminary determination that certain storm water discharges in Los Alamos County, New Mexico will be required to obtain National Pollutant Discharge Elimination System (NPDES) permit coverage under the Clean Water Act. This action is a result of “A Petition by Amigos Bravos for a Determination that Storm Water Discharges in Los Alamos County Contribute to Water Quality Standards Violations and Require a Clean Water Act Permit,” dated June 30, 2014. EPA is seeking public comment on the nature and scope of this preliminary designation. It is EPA's intention to make a final decision following the close of the comment period after consideration of all comments submitted.

DATES: Comments must be submitted in writing to EPA on or before April 16, 2015.

ADDRESSES: Comments should be submitted to Ms. Evelyn Rosborough via email: rosborough.evelyn@epa.gov, or may be mailed to Ms. Evelyn Rosborough, Environmental Protection Agency, Water Quality Protection Division (6WQ-NP), 1445 Ross Ave., Suite 1200, Dallas, TX 75202.

FOR FURTHER INFORMATION CONTACT: Contact Ms. Evelyn Rosborough, (214) 665-7515 or at rosborough.evelyn@epa.gov.

SUPPLEMENTARY INFORMATION:

Summary and Availability of Petition and Preliminary Designation Documents

The Regional Administrator EPA Region 6 has made a preliminary determination pursuant to Section 402(p) of the Clean Water Act, 40 CFR 122.26(f)(2) and (4), 40 CFR 122.26 (9)(i)(A) and (D), and 40 CFR 122.32(a)(2) that NPDES permits are required for discharges to waters of the United States from small municipal separate storm sewer systems (MS4s) in the Los Alamos and White Rock Urban Clusters (as defined by the latest Decennial Census) and serving the Los Alamos National Laboratory (LANL) in Los Alamos County, New Mexico. This action would affect MS4s owned or operated by Los Alamos County, LANL including the Department of Energy (DOE) and Los Alamos National Security, LLC (LANS), and the New Mexico Department of Transportation. Details of the preliminary determination are available in the Los Alamos County Designation Document. The Designation Document and supplementary information are available on the EPA Region 6 Web page at http://www.epa.gov/region6/water/npdes/publicnotices/nm/nmdraft.htm

Dated: March 6, 2015.
Samuel Coleman,
Acting Regional Administrator, Region 6.

[FR Doc. 2015-06114 Filed 3-16-15; 8:45 am]

BILLING CODE 6560-50-P